DEPARTMENT OF COMMERCE

International Trade Administration

A-570-863

Honey from the People's Republic of China: Notice of Rescission of Antidumping Duty New Shipper Review

AGENCY: Import Administration, International Trade Administration, Department of Commerce.

EFFECTIVE DATE: July 31, 2006

SUMMARY: In response to a request from Tianjin Eulia Honey Co., Ltd. (Tianjin Eulia), the Department of Commerce published in the Federal Register, on January 31, 2006, a notice announcing the initiation of a new shipper review of the antidumping duty order on honey from the People's Republic of China (PRC) covering the period of December 1, 2004, through December 31, 2005. On July 12, 2006, Tianjin Eulia, withdrew its request for a new shipper review. Therefore, we are rescinding this review.

FOR FURTHER INFORMATION CONTACT: Helen Kramer or Judy Lao, Office 7, AD/CVD Operations, Import Administration, International Trade Administration, U.S. Department of Commerce, 14th Street and Constitution Avenue, NW, Washington, DC 20230; telephone: 202-482-0405 or 202-482-7924, respectively.

SUPPLEMENTARY INFORMATION:

Background

The Department of Commerce (the Department) published the antidumping duty order on honey from the PRC on December 10, 2001. Notice of Amended Final Determination of Sales at Less Than Fair Value and Antidumping Duty Order; Honey from the People's Republic of China, 66 FR 63670 (December 10, 2001). On December 29, 2005, we received a timely request for a new shipper review of the antidumping duty order on honey from the PRC from Tianjin Eulia. Pursuant to section 751(a)(2)(B) of the Tariff Act of 1930, as amended (the Act), and 19 CFR 351.214(d)(1), we initiated a new shipper review on January 31, 2006, for shipments of honey from the PRC produced and exported by Tianjin Eulia. Honey from the People's Republic of China: Initiation of New Shipper Antidumping Duty Reviews, 71 FR 5051 (January 31, 2006). Tianjin Eulia submitted responses to the Department's questionnaires and supplemental questionnaires on February 27, 2006, March 13, 2006, March 30, 2006, May 5, 2006, and June 14, 2006. On June 19, 2006, petitioners submitted to the Department comments regarding Tianjin Eulia. On June 22, 2006, Tianjin Eulia submitted a letter of intent to no longer participate in the new shipper review. On July 12, 2006, Tianjin Eulia withdrew its request for the new shipper review.

Rescission of New Shipper Review

Section 351.214(f)(1) of the Department's regulations provides that the Department may rescind a new shipper review if the party that requested the review withdraws its request for review within sixty days of the date of publication of the notice of initiation of the requested review. Although Tianjin Eulia withdrew its request after the 60-day deadline, we find it reasonable to extend the deadline because we have not yet committed significant resources to the Tianjin Eulia new shipper review. Specifically, we have not calculated a preliminary margin for Tianjin Eulia and we have not yet verified Tianjin Eulia's data. Further, Tianjin Eulia was the only party to request the review. Finally, we have not received any submissions opposing the withdrawal of the request for the review. See Carbazole Violet Pigment 23 from India: Notice of Rescission of Antidumping Duty New Shipper Review, 71 FR 26926 (May 9, 2006). For these reasons, we are rescinding the new shipper review of the antidumping duty order on honey from the PRC in accordance with 19 CFR 351.214(f)(1).

Notification

As of the date of the publication of this rescission notice in the Federal Register, we will instruct U.S. Customs and Border Protection (CBP) that importers will no longer have the option of posting a bond to fulfill security requirements for shipments of honey from the PRC produced and exported by Tianjin Eulia and entered, or withdrawn from warehouse, for consumption in the United States. We will issue assessment instructions within 15 days of the date of the publication of this notice and, in accordance with 19 CFR 351.212(c), we will instruct CBP to assess antidumping duties at the cash-deposit rate in effect at the time of entry for all shipments of honey from the PRC produced and exported by Tianjin Eulia and entered, or withdrawn from warehouse, for consumption during the period December 1, 2004, through December 31, 2005.

This notice also serves as the only reminder to parties subject to administrative protective order (APO) of their responsibility concerning the disposition of proprietary information disclosed under APO in accordance with 19 CFR 351.305(a)(3). Timely written notification of the return/destruction of APO material or conversion to judicial protective order is hereby requested. Failure to comply with the regulations and terms of an APO is a violation which is subject to sanctions.

This notice is published in accordance with section 751(a) of the Act and 19 CFR 351.214(f)(3).

Dated: July 24, 2006.
Stephen J. Claeys,
Deputy Assistant Secretary for Import Administration.

[FR Doc. E6-12224 Filed 7-28-06; 8:45 am]

BILLING CODE: 3510-DS-S